DEPARTMENT OF THE INTERIOR

Bureau of Land Management

[LLWYD01000-2009-LL13100000-NB0000-LXSI016K0000]

Notice of Rescheduled Meetings of the Pinedale Anticline Working Group, Wyoming

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) will meet in Pinedale, Wyoming. These meetings are open to the public.

DATES: The April 22, 2010 and May 27, 2010 meetings have been combined and rescheduled. The PAWG will meet on the following date beginning at 1 p.m.: May 6, 2010.

Due to administrative delays, the 15-day advance notification required by the regulations at 41 CFR 102-3.150 could not be met. Extra effort will be made to ensure that all interested parties receive timely notification of the changed meeting dates via mail, e-mail, the Internet, and through the news media.

ADDRESSES: The meeting will be held at the BLM Pinedale Field Office, 1625 West Pine Street, Pinedale, WY.

FOR FURTHER INFORMATION CONTACT: Shelley Gregory, Bureau of Land Management, Pinedale Field Office, 1625 West Pine Street, PO Box 768, Pinedale WY 82941; 307-367-5328; shelley_gregory@blm.gov.

SUPPLEMENTARY INFORMATION: The PAWG was authorized and established by the Record of Decision (ROD) for the Final Environmental Impact Statement of the Pinedale Anticline Oil and Gas Exploration and Development Project Area (PAPA) on July 27, 2000 and carried forward with the release of the ROD for the Final Supplemental Environmental Impact Statement of the PAPA on September 12, 2008.

The PAWG advises the BLM on the development and implementation of monitoring plans and adaptive management decisions as PAPA development proceeds. Additional information about the PAWG can be found at: http://www.blm.gov/wy/st/en/field_offices/Pinedale/pawg.html.

Brian W. Davis,
Field Manager, Pinedale Field Office.

[FR Doc. 2010-9330 Filed 4-19-10; 4:15 pm]

BILLING CODE 4310-22-P